DEPARTMENT OF COMMERCE

National Oceanic and Atmospheric Administration

RIN 0648-XD679

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of the King Mackerel Gillnet Working Group.

DATES: The meeting will convene at 9 a.m. until 5 p.m. on Monday, January 12, 2015.

ADDRESSES: Meeting address: The meeting will be held at the Marriott Beachside Hotel located at 3841 N. Roosevelt Boulevard, Key West, FL 33040.

Council address: Gulf of Mexico Fishery Management Council, 2203 North Lois Avenue, Suite 1100, Tampa, FL 33607.

FOR FURTHER INFORMATION CONTACT: Ryan Rindone, Fishery Biologist, Gulf of Mexico Fishery Management Council; telephone: (813) 348-1630; fax: (813) 348-1711; email: ryan.rindone@gulfcouncil.org.

SUPPLEMENTARY INFORMATION: The items of discussion on the agenda are as follows:

King Mackerel Gillnet Working Group Agenda, Monday, January 12, 2015, 9 a.m. Until 5 p.m.

I. Adoption of Agenda

II. Action Guide

III. Overview of King Mackerel Gillnet Issues

(a) Gulf Council Mackerel Committee Summary

IV. Suggested Gillnet Management Options

(a) Trip Limit Increases

(b) Gear Modifications

(c) Catch Shares

(d) Other

V. Wrap Up

This agenda may be modified as necessary to facilitate the discussion of pertinent materials up to and during the scheduled meeting.

For meeting materials see folder “King Mackerel Gillnet Working Group meeting—2015—01” on Gulf Council file server. To access the file server, the URL is https://public.gulfcouncil.org:5001/webman/index.cgi, or go to the Council's Web site and click on the FTP link in the lower left of the Council Web site (http://www.gulfcouncil.org). The username and password are both “gulfguest”.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: December 22, 2014.
Tracey L. Thompson,
Acting Deputy Director, Office of Sustainable Fisheries, National Marine Fisheries Service.

[FR Doc. 2014-30314 Filed 12-24-14; 8:45 am]

BILLING CODE 3510-22-P